DEPARTMENT OF STATE

[Public Notice: 3776]

Bureau of Consular Affairs, Passport Services; Agency Information Collection Activities

AGENCY: Department of State.

ACTION: 30-Day notice of information collection; Form DS-60, affidavit regarding change of name (Formerly DSP-60) OMB #1400-0009.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: Regular—Reinstatement, with change, of a previously approved collection for which approval has expired.

Originating Office: Bureau of Consular Affairs, CA/PPT/FO/FC.

Title of Information Collection: Affidavit Regarding Change of Name.

Frequency: On Occasion.

Form Number: DS-60 (Formerly DSP-60).

Respondents: Individuals or Households.

Estimated Number of Respondents: 106,800.

Average Hours Per Response: ¼ hr. (15 min).

Total Estimated Burden: 26,700.

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER INFORMATION CONTACT: Copies of the proposed information collection and supporting documents may be obtained from Margaret A. Dickson, CA/PPT/FO/FC, Department of State, 2401 E Street, NW., Room H904, Washington, DC 20522, and at 202-633-2460.

Dated: August 9, 2001.
Georgia A. Rogers,
Deputy Assistant Secretary, Bureau of Consular Affairs, U.S. Department of State.

[FR Doc. 01-23236 Filed 9-17-01; 8:45 am]

BILLING CODE 4710-06-P